DEPARTMENT OF JUSTICE

[OMB Number 1190-NEW]

Agency Information Collection Activities; Proposed eCollection eComments Requested; Generic Clearance for Pilot and Field Studies for Community Relations Service Data Collection Activities

AGENCY: Community Relations Service, Department of Justice.

ACTION: 60-Day notice.

SUMMARY: The Department of Justice (DOJ), Community Relations Service (CRS), intends to request approval from the Office of Management and Budget (OMB) for a generic information collection clearance that will allow CRS to conduct a variety of participant feedback studies. CRS will submit the request for review and approval in accordance with the Paperwork Reduction Act of 1995.

Over the next three years, CRS anticipates collecting program impact evaluation data for reassessing ongoing programs across several areas within community outreach. The purpose of these collections is to gather feedback from participants who attended CRS programs and to use that information to measure the impact of the programs. This work may entail redesigning and/or modifying existing programs based upon received feedback. CRS envisions using surveys, interviews, and other electronic data collection instruments.

DATES: Comments are encouraged and will be accepted for 60 days until June 23, 2020.

FOR FURTHER INFORMATION CONTACT: If you have additional comments especially on the estimated public burden or associated response time, suggestions, or need a copy of the proposed information collection instrument with instructions or additional information, please contact Christopher Chalberg, Community Relations Service, 1244 Speer Blvd., Suite 650, Denver, CO 80204 (email: askcrs@usdoj.gov; telephone: 202-305-2935).

SUPPLEMENTARY INFORMATION: Written comments and suggestions from the public and affected agencies concerning the proposed collection of information are encouraged. Your comments should address one or more of the following four points:

—Evaluate whether the proposed collection of information is necessary for the proper performance of the functions of the Community Relations Service, including whether the information will have practical utility.

—Evaluate the accuracy of the agency's estimate of the burden of the proposed collection of information, including the validity of the methodology and assumptions used.

—Evaluate whether (and if so, how) the quality, utility, and clarity of the information to be collected can be enhanced.

—Minimize the burden of the collection of information on those who are to respond, including using appropriate automated, electronic, mechanical, or other technological collection techniques or other forms of information technology, e.g., permitting electronic submission of responses.

Overview of This Information Collection

(1) Type of Information Collection: New Generic Information Collection Request.

(2) The Title of the Form/Collection: Generic Clearance for Community Relations Service Program Impact Evaluations.

(3) The agency form number, if any, and the applicable component of the Department sponsoring the collection: Form numbers not available for generic clearance. The applicable component within the Department of Justice is the Community Relations Service.

(4) Affected public who will be asked or required to respond, as well as a brief abstract: Participants of CRS programs in relevant jurisdictional fields; individuals; facilitators; state and local law enforcement, government officials, faith leaders, and community leaders; students; school administrators; and representatives of advocacy organizations.

(5) An estimate of the total number of respondents and the amount of time estimated for an average respondent to respond: We estimate that approximately 80-90 respondents will be involved in program impact evaluations conducted under this clearance over the requested 3-year clearance period. The average response time per respondent will be up to 1 hour.

(6) An estimate of the total public burden (in hours) associated with the collection: The total respondent burden for identified and future projects covered under this generic clearance over the 3-year clearance period is approximately 80-90 hours.

If additional information is required contact: Melody Braswell, Department Clearance Officer, United States Department of Justice, Justice Management Division, Policy and Planning Staff, Two Constitution Square, 145 N Street NE, 3E.405A, Washington, DC 20530.

Dated: April 21, 2020.
Melody Braswell,
Department Clearance Officer for PRA, U.S. Department of Justice.

[FR Doc. 2020-08720 Filed 4-23-20; 8:45 am]

BILLING CODE 4410-18-P